NATIONAL SCIENCE FOUNDATION

Advisory Committee for International Science and Engineering; Notice of Meeting

In accordance with the Federal Advisory Committee Act (Pub. L. 92-463, as amended), the National Science Foundation (NSF) announces the following meeting:

NAME AND COMMITTEE CODE: Advisory Committee for International Science and Engineering Meeting (#25104).

DATE AND TIME:

Monday, June 18, 2018; 9:00 a.m. to 5:00 p.m. (EDT).

Tuesday, June 19, 2018; 9:00 a.m. to 1:00 p.m. (EDT).

PLACE: National Science Foundation, 2415 Eisenhower Avenue, Alexandria, VA 22314; Telephone: (703) 292-8710.

TYPE OF MEETING: Part-Open.

CONTACT PERSON(s): Roxanne Nikolaus, Program Manager, OD/OISE, 703-292-8710; Diane Drew, Program Specialist, OD/OISE, 703-292-7220; and Suzanne Abo, Program Analyst, OD/OISE, 703-292-2704.

National Science Foundation, 2415 Eisenhower Avenue, Alexandria, VA 22314.

PURPOSE OF MEETING: To provide advice, recommendations and counsel on major goals and policies pertaining to international programs and activities.

AGENDA

Monday, June 18, 2018; 9:00 a.m. to 5:00 p.m.

• Update on OISE activities.

• Discussion of new NSF approach to international outreach—MULTIplying Impact Leveraging International Expertise in Research (MULTIPLIER) approach.

• Discussion of multilateral international research collaborations.

• Discussion of new approach to the Board on International Scientific Organizations (BISO) (CLOSED SESSION).

Tuesday, June 19, 2018; 9:00 a.m. to 1:00 p.m.

• Discussion of overall Advisory Committee strategic planning.

• Update on NSF international collaboration data analytics.

• Meet with NSF leadership.

REASON FOR CLOSING: Session on the new approach to the Board on International Scientific Organizations (BISO) will include discussion of potential proposed agency actions which may properly be closed to the public under 5 U.S.C. 552b(c), (4) of the Government in the Sunshine Act.

Dated: May 22, 2018.
Crystal Robinson,
Committee Management Officer.

[FR Doc. 2018-11272 Filed 5-24-18; 8:45 am]

BILLING CODE 7555-01-P